DEPARTMENT OF ENERGY

Federal Energy Regulatory Commission

[Docket No. RP01-31-000]

USG Pipeline Company; Notice of Compliance Filing

October 12, 2000.

Take notice that on October 6, 2000, USG Pipeline Company (USGPC) tendered for filing to become part of its FERC Gas Tariff, Original Volume No. 1, First Revised Sheet No. 51, with an effective date of November 1, 2000.

USGPC states that the purpose of this filing is to comply with the Commission's Order No. 587-L issued June 30, 2000 in Docket No. RM96-1-014. USGPC requests waiver of the Commission's regulations to permit the tariff sheet to become effective November 1, 2000.

USGPC states that copies of this filing are being provided to its sole customer and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-26687 Filed 10-17-00; 8:45 am]

BILLING CODE 6717-01-M